DEPARTMENT OF THE INTERIOR

National Park Service

[NPS-NER-ACAD-16166; PPNEACADSO, PPMPSPDIZ.YM0000]

Request for Nominations for the Acadia National Park Advisory Commission

AGENCY: National Park Service, Interior.

ACTION: Notice of Request for Nominations.

SUMMARY: The National Park Service, U.S. Department of the Interior, is seeking nominations for members at large to the Acadia National Park Advisory Commission (Commission). The purpose of the Commission is to advise the Secretary of the Interior (Secretary) and the National Park Service (NPS) on matters relating to management and development of Acadia National Park.

DATES: Written nominations must be postmarked by November 7, 2014.

ADDRESSES: Send nominations to David Manski, Acting Deputy Superintendent, Acadia National Park, P.O. Box 177, Bar Harbor, Maine 04609, telephone (207) 288-8701, or email david_manski@nps.gov.

FOR FURTHER INFORMATION CONTACT: David Manski, Acting Deputy Superintendent, Acadia National Park, P.O. Box 177, Bar Harbor, Maine 04609, telephone (207) 288-8701, or email david_manski@nps.gov.

SUPPLEMENTARY INFORMATION: The Acadia National Park Advisory Commission was established in accordance with the provisions of the Federal Advisory Committee Act (FACA) 5 U.S.C. App. 1-16; Sec. 103, Public Law 99-420, 100 Stat. 959; and Sec. 314, Public Law 110-229, 122 Stat. 775.

The Commission advises the Secretary and the NPS on matters relating to the management and development of Acadia National Park, including but not limited to the acquisition of lands and interests in lands (including conservation easements on islands) and the termination of rights of use and occupancy.

The Commission is composed of 16 members appointed by the Secretary, as follows: (a) Three members at large; (b) three members appointed from among individuals recommended by the Governor of Maine; (c) four members appointed from among individuals recommended by each of the four towns on the island of Mount Desert; (d) three members appointed from among individuals recommended by each of the three Hancock County mainland communities of Gouldsboro, Winter Harbor, and Trenton, and; (e) three members appointed from among individuals recommended by each of the three island towns of Cranberry Isles, Swans Island, and Frenchboro.

Members of the Commission will receive no pay, allowances, or benefits by reason of their service on the Commission. However, while away from their homes or regular places of business in the performance of services for the Commission as approved by the Designated Federal Officer, members will be allowed travel expenses, including per diem in lieu of subsistence, in the same manner as persons employed intermittently in Government service are allowed such expenses under 5 U.S.C. 5703.

Individuals who are Federally registered lobbyists are ineligible to serve on all FACA and non-FACA boards, committees, or councils in an individual capacity. The term “individual capacity” refers to individuals who are appointed to exercise their own individual best judgment on behalf of the government, such as when they are designated Special Government Employees, rather than being appointed to represent a particular interest.

Seeking Nominations for Membership

We are seeking nominations for commission members in the following category: Members at large. Nominations should include a resume providing an adequate description of the nominee's qualifications, including information that would enable the Department of the Interior to make an informed decision regarding meeting the membership requirements of the Commission and permit the Department to contact a potential member.

Members are appointed by the Secretary for a term not to exceed three years. The terms of the three members at large of the Commission expire on September 28, 2014. The Commission last met on June 2, 2014, and usually meets three times per year, generally in June, September, and February. Meetings may take place at such times as designated by the Designated Federal Officer. Members are expected to make every effort to attend all meetings. Members may not appoint deputies or alternates.

Dated: September 26, 2014.
Alma Ripps,
Chief, Office of Policy.

[FR Doc. 2014-24044 Filed 10-7-14; 8:45 am]

BILLING CODE 4310-EE-P